ENVIRONMENTAL PROTECTION AGENCY

[FRL-7423-7]

Escambia Wood Preserving Site, Brookhaven, MI, Notice of Proposed Settlement

AGENCY: Environmental Protection Agency (EPA).

ACTION: Notice of proposed settlement.

SUMMARY: The United States Environmental Protection Agency is proposing to enter into a settlement with Mr. Nelson Case for recovery of past response costs pursuant to section 122(h)(1) of the Comprehensive Environmental Response, Compensation, and Liability Act (CERCLA), 42 U.S.C. 9622(h)(1) concerning the Escambia Wood Preserving Site located in Brookhaven, Lincoln County, Mississippi. EPA will consider public comments on the proposed settlement for thirty (30) days. EPA may withdraw from or modify the proposed settlement should such comments disclose facts or considerations which indicate the proposed settlement is inappropriate, improper or inadequate. Copies of the proposed settlement are available from: Ms. Paula V. Batchelor, U.S. EPA, Region 4, (WMD-CPSB), 61 Forsyth Street, SW., Atlanta, Georgia 30303, (404) 562-8887.

Written comments may be submitted to Ms. Batchelor within 30 calendar days of the date of this publication.

Dated: December 4, 2002.
Anita Davis,
Acting Chief, CERCLA Program Services Branch, Waste Management Division.

[FR Doc. 02-31904 Filed 12-18-02; 8:45 am]

BILLING CODE 6560-50-P